JOINT BOARD FOR THE ENROLLMENT OF ACTUARIES

20 CFR Part 901

[REG-159704-03]

RIN 1545-BC82

Regulations Governing the Performance of Actuarial Services Under the Employee Retirement Income Security Act of 1974: Solicitation for Comments

AGENCY: Joint Board for the Enrollment of Actuaries.

ACTION: Solicitation for comments.

SUMMARY: The Joint Board for the Enrollment of Actuaries (Joint Board) is seeking public comments regarding possible revisions to the regulations governing actuarial services under the Employee Retirement Income Security Act of 1974, as amended (ERISA).

DATES: Comments are requested on or before September 28, 2004.

ADDRESSES: Send written comments to: Internal Revenue Service; Attn: SE:OPR (Joint Board regulations); 1111 Constitution Avenue, NW., Washington, DC 20224. Comments may be submitted electronically at www.irs.gov/regs or via the Federal eRulemaking portal www.regulations.gov.

FOR FURTHER INFORMATION CONTACT: Ms. Elizabeth Van Osten, (202) 622-8257 (not a toll-free number).

SUPPLEMENTARY INFORMATION:

Background

The Joint Board for the Enrollment of Actuaries (Joint Board) was established on October 31, 1974, pursuant to section 3041 of the Employee Retirement Income Security Act of 1974 (ERISA). Section 3042 of ERISA provides that the Joint Board shall, by regulations, establish reasonable standards and qualifications for persons performing actuarial services under ERISA and enroll qualified actuaries. It also provides that the Joint Board may, after notice and an opportunity for a hearing, suspend or terminate the enrollment of an actuary who fails to discharge his or her duties under ERISA or who does not satisfy the requirements for enrollment.

Consistent with section 3042 of ERISA, the Joint Board has promulgated regulations, addressing eligibility for enrollment, requirements for continuing education of enrolled actuaries, professional standards for performance of actuarial services under ERISA, bases for disciplinary actions and the procedures to be followed in taking those actions. Those regulations are found at 20 CFR part 901 and were last amended in 1988.¹

¹ 40 FR 18776 (April 30, 1975); 42 FR 39200 (August 3, 1977); 43 FR 39757 (September 7, 1978); 44 FR 11751 (March 2, 1979); 44 FR 68458 (November 29, 1979); 53 FR 34484 (September 7,1988).

Comments

In recent years, the Joint Board has noted that changes in the actuarial profession, as well as modern innovations, such as the availability of alternative modes of training, are not adequately addressed in the regulations, thus necessitating revision of the regulations.

Prior to issuing proposed regulations, the Joint Board wishes to obtain comments from the public regarding matters for consideration, including but not limited to the following areas:

(1) Whether and to what extent the provisions in the current regulations on the procedures and conditions for enrollment and renewal of enrollment should be updated or revised, including provisions on qualifying experience, the structure and content of the basic and pension examinations, the completion of professional society examinations and qualifying formal education in lieu of the basic and pension examinations, and the definitions of terms used in the regulations.

(2) Whether and to what extent provisions in the current regulations on Continuing Professional Education (CPE) should be updated or revised, including those relevant to formal and informal programs, the means for measuring attendance and completion, and acceptability of new technologies (computer-based programs, webcasts, recorded telecasts, audiotapes, videotapes, etc.).

(3) Whether and to what extent provisions in the current regulations relevant to waivers of the CPE requirement should be updated or revised, including the circumstances, conditions, and limitations under which a waiver might be granted.

(4) Whether and to what extent provisions in the current regulations on the types of enrollment statuses (active, inactive, retired) should be updated or revised, including the incorporation of limitations on the number of consecutive enrollment cycles during which an individual may be placed in either inactive or retired status.

(5) Whether and to what extent provisions in the current regulations relevant to standards of conduct, performance and practice that relate to enrolled actuaries' duties under ERISA should be updated or revised, including those relevant to conflicts of interest, professional independence, disciplinary procedures, and sanctions.

The Joint Board is also interested in obtaining information regarding the potential costs and benefits of any changes to the current regulations, including the potential impact of such changes on small entities. Therefore, in submitting comments in response to this notice, commentators are encouraged to include information with regard to the potential costs, benefits, and impact of any suggested regulatory changes for small businesses.

All comments submitted will be made available for public inspection and copying, although comments will not be individually acknowledged. Therefore, commentators should refrain from including personal information or other information that they believe should not be publicly disclosed. Additionally, in submitting comments with regard to some or all of the listed areas, please refer to the item numbers specified above.

Martin L. Pippins,
Chairman, Joint Board for the Enrollment of Actuaries.

[FR Doc. 04-14719 Filed 6-29-04; 8:45 am]

BILLING CODE 4830-01-P